DEPARTMENT OF COMMERCE

Foreign-Trade Zones Board

[B-41-2015]

Notification of Proposed Production Activity, BMW Manufacturing Co., LLC, Subzone 38A, (Motor Vehicles), Spartanburg, South Carolina

BMW Manufacturing Co., LLC (BMWMC), operator of Subzone 38A, submitted a notification of proposed production activity to the FTZ Board for its facility in Spartanburg, South Carolina. The notification conforming to the requirements of the regulations of the FTZ Board (15 CFR 400.22) was received on June 3, 2015.

BMWMC already has authority to produce passenger sedans, coupes, and sport utility vehicles. The current request would add a new finished product (passenger vehicle bodies) and foreign-status materials and components to the scope of authority. Pursuant to 15 CFR 400.14(b), additional FTZ authority would be limited to the specific foreign-status materials and components and specific finished products described in the submitted notification (as described below) and subsequently authorized by the FTZ Board.

Production under FTZ procedures could exempt BMWMC from customs duty payments on the foreign status materials and components used in export production. On its domestic sales, BMWMC would be able to choose the duty rate during customs entry procedures that applies to passenger motor vehicles and related bodies (duty rate 2.5%) for the foreign status materials and components noted below and in the existing scope of authority. Customs duties also could possibly be deferred or reduced on foreign status production equipment.

The materials and components sourced from abroad include: first-aid kits; acrylic/vinyl paints; trunk lid adhesives; acoustic absorber foams; tire sealants; rubber assembly gaskets; tires; felt strips (HTSUS Subheadings 5602.10, 5602.90); damping strips (Subheading 5602.90); tufted floor coverings; carpet sets; velcro straps; glass; windshields; steel flanges; iron/steel coupling locks; suppression band assemblies; earthing strap hinge hatch assemblies; iron/steel rivets; diesel engines; air-conditioner assemblies; air-conditioner tubes/lines; windshield washer assemblies; jacks; metal gaskets; flange seals; electric motors/converters/chargers; wiper motors; power supplies; batteries (lead acid, lithium-ion); electric lamps/lights/signals; reflectors; sound signaling equipment/horns; windshield wiper systems and arms; light-emitting diodes; heater assemblies; telematics communication boxes/media assemblies; GPS assemblies; microphone assemblies; speaker assemblies and related components; earphone module assemblies; amplifier assemblies; monitor assemblies; acoustic pads; TV tuner modules/assemblies/antennas; cameras; radio navigation equipment/remote controls/receivers/antennas; antenna covers; signal and sound display modules; alarm systems; indicator panels; electromagnetic filter interference assemblies; suppression filter assemblies; accelerator modules; control modules; carrier plates; sensors (wheel speed ID, oil temperature, gas temperature, pressure, oxygen, exhaust, rain, park assist, yaw); wiring harnesses; USB cables; audio amplifier assemblies; auxiliary cables; speedometers; tachometers; sensor rods; and, cigarette lighters (duty rate ranges from free to 10.6%). Inputs included in certain textile categories (classified within HTSUS Subheadings 5602.10 and 5602.90) will be admitted to Subzone 38A under privileged foreign status (19 CFR 146.41), thereby precluding inverted tariff benefits on such items.

Public comment is invited from interested parties. Submissions shall be addressed to the FTZ Board's Executive Secretary at the address below. The closing period for their receipt is July 29, 2015.

A copy of the notification will be available for public inspection at the Office of the Executive Secretary, Foreign-Trade Zones Board, Room 21013, U.S. Department of Commerce, 1401 Constitution Avenue NW, Washington, DC 20230-0002, and in the “Reading Room” section of the FTZ Board's Web site, which is accessible via www.trade.gov/ftz.

FOR FURTHER INFORMATION CONTACT: Pierre Duy at Pierre.Duy@trade.gov or (202) 482-1378.

Dated: June 12, 2015.
Elizabeth Whiteman,
Acting Executive Secretary.

[FR Doc. 2015-15147 Filed 6-18-15; 8:45 am]

BILLING CODE 3510-DS-P